DEPARTMENT OF ENERGY

Federal Energy Regulatory Commission

[Project No. 2305-016]

Sabine River Authority of TX & LA; Notice of Public Meeting

November 15, 2000.

a. Date and Time of Meeting: December 5, 2000; Session I 8:30 am to 12 pm; Session II 1:30 pm to 5 pm.

b. Place: Landmark Hotel, 3080 Colony Blvd., Leesville, LA 71446, 1-800-246-6926 or (337) 239-7571.

c. FERC Contacts: Frank Calcagno (Session I) (202) 219-2741; e-mail address Frank.Calcagno@ferc.fed.us, Jon Cofrancesco (Session II) (202) 219-0079; e-mail address Jon.Cofrancesco@ferc.fed.us.

d. Purpose of the Meeting: The Federal Energy Regulatory Commission, will hold a public meeting on the above date to discuss: (1) Session I—the coordination of the Toledo Bend Project's (FERC No. P-2305) Emergency Action Plan (EAP); and (2) Session II—the possible options for the resolution of a request filed with the FERC to raise the required minimum reservoir level for the Toledo Bend Project.

e. Proposed Agenda:

Session I

A. Opening Remarks—FERC

B. Description of proposed Project Facilities and Flood Notification Flow Chart—Sabine River Authority

C. Emergency Management Agency Role in Flood Flow Notification:

1. State of Texas Emergency Management

2. State of Louisiana Emergency Management

3. Comments from other state and local emergency response agencies

D. Public Questions and Comments

Session II

A. Introduction

1. Discuss meeting purpose and format

2. Background of Issue

B. Roles of FERC and Sabine River Authority in the Toledo Bend Project

C. Discuss collaborative and license reopener processes

D. Comments from meeting participants

E. Discuss follow-up actions

f. All local, state, and Federal agencies, Indian Tribes, and interested parties, are hereby invited to attend this meeting as participants.

Linwood A. Watson, Jr.,
Acting Secretary.

[FR Doc. 00-29698 Filed 11-20-00; 8:45 am]

BILLING CODE 6717-01-M